DEPARTMENT OF HEALTH AND HUMAN SERVICES

Health Resources and Services Administration

[OMB No. 0906-0047—Revision]

Agency Information Collection Activities: Proposed Collection: Public Comment Request: Information Collection Request Title: Ryan White HIV/AIDS Program Parts A and B Unobligated Balances and Rebate Addendum Tables

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than March 27, 2023.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Samantha Miller, the acting HRSA Information Collection Clearance Officer, at 301-594-4394.

SUPPLEMENTARY INFORMATION: When submitting comments or requesting information, please include the ICR title for reference.

Information Collection Request Title: Ryan White HIV/AIDS Program Parts A and B Unobligated Balances and Rebate Addendum Tables, OMB No. 0906-0047—Revision.

Abstract: HRSA's Ryan White HIV/AIDS Program (RWHAP) funds and coordinates with cities, states and territories, and local clinics/community-based organizations to deliver efficient and effective HIV care, treatment, and support to low-income people diagnosed with HIV. Nearly two-thirds of RWHAP clients (patients) live at or below 100 percent of the federal poverty level and approximately three-quarters of RWHAP clients are racial and ethnic minorities. Since 1990, the RWHAP has developed a comprehensive system of HIV service providers who deliver high quality direct health care and support services to over half a million people diagnosed with HIV—more than 50 percent of all people diagnosed with HIV in the United States.

Grant recipients funded under Parts A and B of the RWHAP (codified under Title XXVI of the Public Health Service Act) are required to report financial data to HRSA annually in their Federal Financial Report (FFR SF-425). In addition to the FFR, the RWHAP Parts A and B grant recipients are required to identify and report the unobligated balance (UOB) by itemized subprogram/funding stream source (Formula, Minority AIDS Initiative (MAI), AIDS Drug Assistance Program (ADAP), etc.). As of April 22, 2021, grant recipients must submit the subprogram breakdown of the UOB on their FFR in the Payment Management System. Grant recipients are also required to specify RWHAP Rebate Funding received in the fiscal year in the UOB table. HRSA uses the UOB and rebate addendum financial information to determine formula funding as directed by the RWHAP statute. These data were previously collected when grant recipients submitted their annual FFR SF-425 in hard copy only and submitted to HRSA, which then combined the FFR SF-425 data with the UOB and rebate addendum tables that are submitted by recipients on a suggested format through the HRSA (EHB). The purpose of this financial data collection is to streamline the process for the grant recipients by collecting financial information in the same location and at the same time. The FFR SF-425 is now completed in the Payment Management System and is exported automatically to the HRSA EHBs when the recipient completes the FFR. The UOB tables for RWHAP Parts A and B will continue to collect the same information with the addition of one column on Prior Year (Fiscal Year (FY) 20XX) information. This one column will impact seven recipients out of 111 RWHAP Part A and Part B recipients in total, annually. Recipients that need to submit data to the added column need to complete one or several fields at the most. (See tables below for reference). The UOB and rebate addendum data tables will be collected in the HRSA EHBs below the FFR SF-425 control number and the Paperwork Burden Statement.

Need and Proposed Use of the Information: RWHAP Part A and Part B recipients complete the UOB and rebate addendum tables as a part of their FFR SF-425 submission. This process has decreased administrative burden, increased transparency, and improved the quality of data submitted to HRSA. These UOB and rebate addendum tables are essential for allowing HRSA to ensure that RWHAP recipients are meeting the goal of accountability to Congress, clients, advocacy groups, and the general public. Information provided in the UOB and rebate addendum tables is critical for HRSA, states and territories, local clinics, and individual providers to evaluate the effectiveness of these programs.

Likely Respondents: HRSA RWHAP Parts A and B Recipients.

Burden Statement: Burden in this context means the time expended by persons to generate, maintain, retain, disclose, or provide the information requested. This includes the time needed to review instructions; to develop, acquire, install, and utilize technology and systems for the purpose of collecting, validating, and verifying information, processing, and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Part A UOB Table | 52 | 1 | 52 | 0.5 | 26
Part B UOB Table | 59 | 1 | 59 | 0.5 | 29.5
Total | 111 |  | 111 |  | 55.5

Note: Beginning in July 2021, information related to prior year UOB was collected in addition to the existing data in the approved ICR. The additional information collected does not impact all 111 respondents; in FY 2020, seven respondents reported prior year UOB which equates to only 6 percent of respondents impacted. The estimated burden to potentially impacted respondents is negligible. See the tables below for comparison of the added data point for prior year UOB. No changes were made to the approved ICR for the RWHAP Part B rebate table.

2019 Approved ICR Table for RWHAP Part A
UOB of federal funds by subprogram: Category | UOB of federal funds by subprogram: Federal funds authorized | UOB of federal funds by subprogram: Unexpended carryover | UOB of federal funds by subprogram: Current year (FY 20XX)
Part A Formula
Part A Supplemental
Part A MAI

Revised RWHAP Part A Table
UOB of federal funds by subprogram: Category | UOB of federal funds by subprogram: Federal funds authorized | UOB of federal funds by subprogram: Unexpended carryover | UOB of federal funds by subprogram: Prior year (FY 20XX) | UOB of federal funds by subprogram: Current year (FY 20XX)
Part A Formula
Part A Supplemental
Part A MAI

2019 Approved ICR Table for RWHAP Part B
UOB of federal funds by subprogram: Category | UOB of federal funds by subprogram: Federal funds authorized | UOB of federal funds by subprogram: Unexpended carryover | UOB of federal funds by subprogram: Current year (FY 20XX)
Part B Base
Part B ADAP
Part B Emerging Communities
Part B MAI
Part B ADAP Supplemental
Part A Transfer

Revised RWHAP Part B Table
UOB of federal funds by subprogram: Category | UOB of federal funds by subprogram: Federal funds authorized | UOB of federal funds by subprogram: Unexpended carryover | UOB of federal funds by subprogram: Prior year (FY 20XX) | UOB of federal funds by subprogram: Current year (FY 20XX)
Part B Base
Part B ADAP
Part B Emerging Communities
Part B MAI
Part B ADAP Supplemental
Part A Transfer

RWHAP Part B Rebate Table
Ryan White Rebate Funding
Total Rebates Available
Expended Rebate Amount
Unexpended Rebate
Expended Rebate Amount to be Used to Reduce UOB

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2023-01288 Filed 1-23-23; 8:45 am]

BILLING CODE 4165-15-P